INTERNATIONAL TRADE COMMISSION

[Investigation No. 337-TA-1164]

Certain Light-Emitting Diode Products, Systems, and Components Thereof (II); Institution of Investigation

AGENCY: U.S. International Trade Commission.

ACTION: Notice.

SUMMARY: Notice is hereby given that a complaint was filed with the U.S. International Trade Commission on April 30, 2019, under section 337 of the Tariff Act of 1930, as amended, on behalf of Lighting Science Group Corporation of Cocoa Beach, Florida; Healthe, Inc. of Cocoa Beach, Florida; and Global Value Lighting LLC of West Warwick, Rhode Island. An amended complaint was filed on May 20, 2019. A supplement to the amended complaint was filed on June 11, 2019. The complaint, as amended, alleges violations of section 337 based upon the importation into the United States, the sale for importation, and the sale within the United States after importation of certain light-emitting diode products, systems, and components thereof by reason of infringement of certain claims of U.S. Patent No. 7,098,483 (“the '483 Patent”); U.S. Patent No. 7,095,053 (“the '053 Patent”); U.S. Patent No. 8,506,118 (“the '118 Patent”); U.S. Patent No. 7,528,421 (“the '421 Patent”); U.S. Patent No. 8,674,608 (“the '608 Patent”); U.S. Patent No. 8,201,968 (“the '968 Patent”); and U.S. Patent No. 8,967,844 (“the '844 Patent”). The complaint, as amended, further alleges that an industry in the United States exists as required by the applicable Federal Statute. The complaint, as amended, also alleges violations of section 337 based on the importation into the United States, and in the sale of, certain light-emitting diode products, systems, and components thereof by reason of false advertising, the threat of effect of which is to destroy or substantially injure an industry in the United States.

The complainants request that the Commission institute an investigation and, after the investigation, issue a limited exclusion order and cease and desist orders.

ADDRESSES: The complaint, as amended, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2018).

Scope of Investigation: Having considered the complaint, as amended, the U.S. International Trade Commission, on June 19, 2019, ordered that—

(1) Pursuant to section 210.10(a)(6) of the Commission's Rules of Practice and Procedure, 19 CFR 210.10(a)(6), two separate investigations be instituted based on the amended complaint to further efficient adjudication, one of which is instituted by this notice of investigation, and that this decision shall not preclude the presiding Administrative Law Judge from further severing the investigation pursuant to section 210.14(h) of the Commission's Rules of Practice and Procedure, 19 CFR 210.14(h), if appropriate;

(2) Pursuant to subsection (b) of section 337 of the Tariff Act of 1930, as amended, an investigation be instituted to determine:

(a) Whether there is a violation of subsection (a)(1)(B) of section 337 in the importation into the United States, the sale for importation, or the sale within the United States after importation of certain products identified in paragraph (3) by reason of infringement of one of more of claims 6 and 7 of the '968 patent; and claim 4 of the '844 patent; and whether an industry in the United States exists as required by subsection (a)(2) of section 337;

(b) whether there is a violation of subsection (a)(1)(A) of section 337 in the importation into the United States, or in the sale of certain products identified in paragraph (3) by reason of false advertising, the threat or effect of which is to destroy or substantially injure an industry in the United States;

(3) Pursuant to section 210.10(b)(1) of the Commission's Rules of Practice and Procedure, 19 CFR 210.10(b)(1), the plain language description of the accused products or category of accused products, which defines the scope of the investigation, is “(1) LED downlights; and (2) LED luminaires”;

(4) For the purpose of the investigation so instituted, the following are hereby named as parties upon which this notice of investigation shall be served:

(a) The complainants are:

Lighting Science Group Corporation, 801 N. Atlantic Avenue, Cocoa Beach, FL 32931

Healthe, Inc., 801 N. Atlantic Avenue, Cocoa Beach, FL 32931

Global Value Lighting, LLC, 1350 Division Road, Suite 204, West Warwick, RI 02893

(b) The respondents are the following entities alleged to be in violation of section 337, and are the parties upon which the amended complaint is to be served:

Signify N.V. (f/k/a Philips Lighting N.V.), High Tech Campus 45, 5656 AE Eindhoven, Netherlands

Signify North America Corporation, (f/k/a Philips Lighting North America Corporation), 200 Franklin Square Drive, Somerset, New Jersey 08873

General Electric Company, 41 Farnsworth Street, Boston, Massachusetts 02210

Consumer Lighting (U.S.), LLC, (d/b/a GE Lighting, LLC), 1975 Noble Road, Cleveland, Ohio 44112

Acuity Brands, Inc., 1170 Peachtree Street NE, Suite 2300, Atlanta, Georgia 30309

Acuity Brands Lighting, Inc., One Lithonia Way, Suite 2300, Conyers, Georgia 30012

Leedarson Lighting Co., Ltd., Leedarson Building, No. 1511, 2nd Fanghu North Road, Xiamen 361010, China

Leedarson America, Inc., 4600 Highlands Pkwy SE, Suite D-E, Smyrna, Georgia 30082

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: June 20, 2019.
William Bishop,
Supervisory Hearings and Information Officer.

[FR Doc. 2019-13455 Filed 6-24-19; 8:45 am]

BILLING CODE 7020-02-P